LIBRARY OF CONGRESS

Copyright Office

37 CFR Part 202

[Docket No. 2018-2]

Group Registration of Serials

AGENCY: U.S. Copyright Office, Library of Congress.

ACTION: Extension of comment period.

SUMMARY: The U.S. Copyright Office is extending the deadline for the submission of written comments in response to its May 17, 2018 notice of proposed rulemaking regarding amendments to its regulation governing the group registration option for serials.

DATES: The comment period is extended by an additional thirty days. Comments must be made in writing and must be received in the U.S. Copyright Office no later than July 18, 2018.

ADDRESSES: For reasons of government efficiency, the Copyright Office is using the regulations.gov system for the submission and posting of public comments in this proceeding. All comments are therefore to be submitted electronically through regulations.gov. Specific instructions for submitting comments are available on the Copyright Office website at https://www.copyright.gov/rulemaking/group-serials/. If electronic submission of comments is not feasible due to lack of access to a computer and/or the internet, please contact the Office for special instructions using the contact information below.

FOR FURTHER INFORMATION CONTACT: Robert J. Kasunic, Associate Register of Copyrights and Director of Registration Policy and Practice, or Erik Bertin, Deputy Director of Registration Policy and Practice, by telephone at 202-707-8040, or by email at rkas@copyright.gov and ebertin@copyright.gov; or Cindy Paige Abramson, Assistant General Counsel, by telephone at 202-707-0676, or by email at ciab@copyright.gov.

SUPPLEMENTARY INFORMATION: On May 17, 2018, the U.S. Copyright Office issued a proposed rulemaking to update its regulations governing the group registration option for serials—works such as magazines and journals. The Office proposed several changes, such as requiring applicants to submit their applications and deposit copies through the Office's electronic registration system instead of submitting paper applications and physical deposit copies; updating the eligibility requirements for this group registration option, and removing the requirement that serial publishers provide the Library of Congress with complimentary subscriptions and the effect of this change on serial publishers in satisfying their obligations under the mandatory deposit requirement.¹ The Office invited public comment on the notice of proposed rulemaking, to be provided by no later than June 18, 2018. However, to ensure that members of the public have sufficient time to respond, and to ensure that the Office has the benefit of a complete record, the Office is extending the submission deadline by an additional thirty days. Written comments now are due no later than July 18, 2018.

¹ 83 FR 22896 (May 17, 2018).

Dated: June 13, 2018.
Regan A. Smith,
General Counsel and Associate Register of Copyrights.

[FR Doc. 2018-13018 Filed 6-15-18; 8:45 am]

BILLING CODE 1410-30-P